DEPARTMENT OF HOMELAND SECURITY

Federal Emergency Management Agency

[Docket ID FEMA-2013-0002; Internal Agency Docket No. FEMA-B-1287]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before April 29, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1287, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at www.fema.gov/pdf/media/factsheets/2010/srp_fs.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Lexington-Fayette Urban County Government, Kentucky
Maps Available for Inspection Online at: http://www.bakeraecom.com/index.php/kentucky/fayette/
Lexington-Fayette Urban County Government | Government Center, 200 East Main Street, 12th floor, Lexington, KY 40507.
Hoke County, North Carolina, and Incorporated Areas
Maps Available for Inspection Online at: http://www.ncfloodmaps.com/
Unincorporated Areas of Hoke County | Hoke County Planning Office, 423 East Central Avenue, Raeford, NC 28376.
Robeson County, North Carolina, and Incorporated Areas
Maps Available for Inspection Online at: http://www.ncfloodmaps.com/
Unincorporated Areas of Robeson County | Robeson County Building Safety and Code Enforcement Office, 435 Country Club Drive, Lumberton, NC 28360.
Marin County, California, and Incorporated Areas
Maps Available for Inspection Online at: http://www.r9map.org/Pages/ProjectDetailsPage.aspx?choLoco=21&choProj=230
City of Larkspur | Planning Department, 400 Magnolia Avenue, Larkspur, CA 94939.
City of Mill Valley | Public Works Department, 26 Corte Madera Avenue, Mill Valley, CA 94941.
City of San Rafael | Public Works Department, 111 Morphew Street, San Rafael, CA 94901.
Town of Tiburon | Planning Department, 1505 Tiburon Boulevard, Tiburon, CA 94920.
Town of Corte Madera | Engineering Department, 233 Tamalpais Drive, Corte Madera, CA 94976.
Town of Fairfax | Department of Planning and Building Services, 142 Bolinas Road, Fairfax, CA 94930.
Town of Ross | Public Works Department, 31 Sir Frances Drake Boulevard, Ross, CA 94957.
Town of San Anselmo | Public Works Department, 525 San Anselmo Avenue, San Anselmo, CA 94960.
Unincorporated Areas of Marin County | Department of Public Works, 3501 Civic Center Drive, Room 304, San Rafael, CA 94913.
Campbell County, Kentucky, and Incorporated Areas
Maps Available for Inspection Online at: http://www.bakeraecom.com/index.php/kentucky/campbell/
City of Alexandria | City Building, 8236 West Main Street, Alexandria, KY 41001.
City of Bellevue | City Building, 616 Poplar Street, Bellevue, KY 41073.
City of California | Northern Kentucky Area Planning Commission, 2332 Royal Drive, Fort Mitchell, KY 41017.
City of Cold Spring | City Building, 638 Madison Avenue, Covington, KY 41076.
City of Crestview | City Building, 9 Dorothy Drive, Crestview, KY 41071.
City of Dayton | City Building, 514 Sixth Avenue, Dayton, KY 41074.
City of Fort Thomas | Government Building/Mayor's Office, 130 North Fort Thomas Avenue, Fort Thomas, KY 41075.
City of Highland Heights | City Building, 175 Johns Hill Road, Highland Heights, KY 41076.
City of Melbourne | Campbell County Fiscal Court Building, 1010 Monmouth Street, Newport, KY 41071.
City of Mentor | Campbell County Government Building, 24 West Fourth Street, Newport, KY 41071.
City of Newport | Government Building, 998 Monmouth Street, Newport, KY 41071.
City of Silver Grove | City Building, 308 Oak Street, Silver Grove, KY 41085.
City of Southgate | City Building, 122 Electric Avenue, Southgate, KY 41071.
City of Wilder | City Building, 520 Licking Pike, Wilder, KY 41071.
City of Woodlawn | Campbell County Government Building, 24 West Fourth Street, Newport, KY 41071.
Unincorporated Areas of Campbell County | Campbell County Government Building, 24 West Fourth Street, Newport, KY 41071.
Scotland County, North Carolina, and Incorporated Areas
Maps Available for Inspection Online at: http://www.ncfloodmaps.com/
City of Laurinburg | City Hall, 305 West Church Street, Laurinburg, NC 28353.
Town of East Laurinburg | East Laurinburg Town Municipal Building, 12 3rd Street, Laurinburg, NC 28353.
Town of Wagram | Town Office, 24421 Marlboro Street, Wagram, NC 28396.
Unincorporated Areas of Scotland County | Scotland County Government Administration Building, 507 West Covington Street, Laurinburg, NC 28352.

(Catalog of Federal Domestic Assistance No. 97.022, “Flood Insurance.”)

James A. Walke,
Acting Deputy Associate Administrator for Mitigation, Department of Homeland Security, Federal Emergency Management Agency.

[FR Doc. 2013-01627 Filed 1-25-13; 8:45 am]

BILLING CODE 9110-12-P